DEPARTMENT OF HOUSING AND URBAN DEVELOPMENT

[Docket No. FR-5711-N-03]

Notice of Regulatory Waiver Requests Granted for the Third Quarter of Calendar Year 2013

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2013, and ending on September 30, 2013.

FOR FURTHER INFORMATION CONTACT: For general information about this notice, contact Camille E. Acevedo, Associate General Counsel for Legislation and Regulations, Department of Housing and Urban Development, 451 7th Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2013.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2013 through September 30, 2013. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2013) before the next report is published (the fourth quarter of calendar year 2013), HUD will include any additional waivers granted for the third quarter in the next report.

Accordingly, information about approved waiver requests pertaining to HUD regulations is provided in the Appendix that follows this notice.

Dated: December 9, 2013.
Helen R. Kanovsky,
General Counsel.

Appendix

Listing of Waivers of Regulatory Requirements Granted by Offices of the Department of Housing and Urban Development July 1, 2013 Through September 30, 2013

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

Regulation: 24 CFR 58.22(a).

Project/Activity: The State of Vermont requested a waiver for the acquisition and development of Ladd Hall, an affordable 27-unit multifamily project in Waterbury, VT. The applicant, Central Vermont Community Land Trust (CVCLT), signed a conditional Purchase and Sales (P&S) Agreement for Ladd Hall prior to approval of the environmental review and Request for Release of Funds (RROF). A waiver was needed because the applicant, CVCLT, committed non-HUD funds to enter into a Purchase & Sales Agreement for the property before approval of the environmental review and the submission and HUD approval of the Request for Release of Funds (RROF). No renovation, demolition, or new construction work on the property had begun.

Nature of Requirement: Section 58.22 of HUD's regulations entitled “Limitations on activities pending clearance” provides that neither a recipient nor any participant in the development process, including public or private nonprofit or for-profit entities, or any of their contractors, may commit HUD assistance under a program listed in 24 CFR 58.1(b) on an activity or project until HUD or the state has approved the recipient's RROF and the related certification from the responsible entity. In addition, until the RROF and the related certification have been approved, neither a recipient nor any participant in the development process may commit non-HUD funds on or undertake an activity or project under a program listed in 24 CFR 58.1(b) if the activity or project would have an adverse environmental impact or limit the choice of reasonable alternatives.

Granted By: Mark Johnston, Deputy Assistant Secretary for Special Needs.

Date Granted: August 9, 2013.

Reason Waived: It was determined that the project would further the HUD mission and advance HUD program goals to develop viable, quality communities and affordable housing. The grantee unknowingly violated the regulation, but no HUD funds were committed, and based on the environmental assessments and the HUD field inspection, granting the waiver would not result in any unmitigated, adverse environmental impact.

Contact: Nelson A. Rivera, Office of Environment and Energy, Office of Community Planning and Development, Department of Housing & Urban Development, 451 7th Street SW., Room 7248, Washington, DC 20410, telephone 202-708-4225.

Regulation: 24 CFR 58.22(a).

Project/Activity: The city of Somerville, MA requested a waiver for the acquisition and development of a former school site by the Somerville Community Corporation, Inc. The project became a federal undertaking on October 11, 2011 when the city began the National Historic Preservation Act Section 106 consultation process and identified HOME and McKinney-Vento funds as part of the project financing package. A purchase and sales agreement for the property was signed on October 12, 2011 and $5,000 was transferred. The deposit, and another for $50,000 on December 20, 2011, used to hold the property as part of the purchase and sales agreement was non-HUD funds making this a regulatory violation.

Nature of Requirement: Section 58.22 of HUD's regulations entitled “Limitations on activities pending clearance” provides that neither a recipient nor any participant in the development process, including public or private nonprofit or for-profit entities, or any of their contractors, may commit HUD assistance under a program listed in 24 CFR 58.1(b) on an activity or project until HUD or the state has approved the recipient's RROF and the related certification from the responsible entity. In addition, until the RROF and the related certification have been approved, neither a recipient nor any participant in the development process may commit non-HUD funds on or undertake an activity or project under a program listed in 24 CFR 58.1(b) if the activity or project would have an adverse environmental impact or limit the choice of reasonable alternatives.

Granted By: Mark Johnston, Deputy Assistant Secretary for Special Needs.

Date Granted: August 30, 2013.

Reason Waived: It was determined that the project would further the HUD mission and advance HUD program goals to develop viable, quality communities and affordable housing. The grantee unknowingly violated the regulation, but no HUD funds were committed, and based on the environmental assessments and the HUD field inspection, granting the waiver would not result in any unmitigated, adverse environmental impact.

Contact: Nelson A. Rivera, Office of Environment and Energy, Office of Community Planning and Development, Department of Housing & Urban Development, 451 7th Street SW., Room 7248, Washington, DC 20410, telephone 202-708-4225.

Regulation: 24 CFR 91.105(c)(2).

Project/Activity: The city of Tuscaloosa, AL, requested a waiver to shorten its citizen comment period so that it could quickly reallocate CDBG funds to assist residents and businesses and facilitate its recovery efforts resulting from a disaster declaration.

Nature of Requirement: HUD's regulation at 24 CFR 91.105(c)(2) requires that citizens be provided with reasonable notice and an opportunity to comment on substantial amendments to its consolidated plan. The citizen participation plan requires that citizens be given no less than 30 days to comment on substantial amendments before they are implemented. The city asked to shorten its citizen comment period to seven days so that it may quickly reallocate CDBG funds for activities to assist city residents and businesses continuing to experience difficulties as they recover from the effects of the storm/tornado.

Granted By: Mark Johnston, Deputy Assistant Secretary for Special Needs.

Date Granted: August 30, 2013.

Reason Waived: The city was allowed to shorten its comment period from 30 days to 7 days so that it may quickly implement a prioritized list of projects to assist businesses and residents experiencing difficulty as they continue to recover from the effects of the severe storms and tornado.

Contact: Gloria Coates, Office of Block Grant Assistance, Entitlement Communities Division, Office of Community Planning and Development, 451 7th Street SW., Room 7282, Washington, DC 20410, telephone (202) 708-1577.

Regulations: 24 CFR 92.503(b)(3).

Project/Activity: The State of Minnesota requested a waiver of 24 CFR 92.503(b)(3), which requires funds expended for ineligible activities or costs to be repaid to the account from which they were disbursed.

Nature of Requirements: HUD's HOME Investment Partnership Program (HOME) regulations at 24 CFR 92.503(b)(1) provide that any HOME funds invested in housing that does not meet the affordability requirements for the period specified in § 92.252 or § 92.254, as applicable, must be repaid by the participating jurisdiction in accordance with § 92.503(b)(3). Section 92.503(b)(3) provides that HUD will instruct the participating jurisdiction to either repay the funds to the HOME Investment Trust Fund Treasury account or the local account. The State was obligated to repay ineligible HOME funds to the HOME grant from which they were expended. If all or a portion of the total repayment was repaid to an expired account, the repayment would have been received by HUD but recaptured by the United States Treasury. As a result, the repaid funds would have no longer been available for the State's use in eligible affordable housing activities. Title II of the Cranston-Gonzalez National Affordable Housing Act (42 U.S.C. 12721 et seq), as amended, states that such repaid funds shall be made available immediately to the participating jurisdiction for investment in eligible affordable housing activities. In this case, the regulation makes it impossible to meet this statutory provision. The waiver was granted to permit the State to repay its local HOME Investment Trust Fund accounts instead of its HOME Investment Trust Treasury account.

Granted By: Mark Johnston, Deputy Assistant Secretary for Special Needs.

Date Granted: July 25, 2013.

Reasons Waived: Waiver was granted to permit the State to repay funds make the repaid funds available for eligible HOME projects.

Contact: Virginia Sardone, Director, Office of Affordable Housing Programs, Office of Community Planning and Development, Department of Housing and Urban Development, 451 7th Street SW., Room 7164, Washington, DC 20410, telephone (202) 708-2684.

Regulations: 24 CFR § 92. 92.2(2)(i).

Project/Activity: The City of Alexandria, VA, requested a waiver of definition of “commitment” at 24 CFR 92.2(2)(i) of the HOME Final Rule for the Lynhaven Apartments project.

Nature of Requirements: Section 92.21(2)(i) was amended effective August 23, 2013 to require that a HOME participating jurisdiction ensure that all necessary financing to complete a project has been secured before HOME funds are committed to the project. The City requested the waiver to permit it to commit HOME funds that would otherwise be lost to a September 30, 2013, deadline. The City stated that it did not anticipate the change in definition of “commitment” that was made effective in the new HOME rule because the definition change was not part of the HOME proposed rule published on December 11, 2011. The short time between the publication of the HOME final rule and the City's September 30, 2013, deadline was insufficient to enable the City identify another project to which it could quickly commit its HOME funds.

Granted By: Mark Johnston, Deputy Assistant Secretary for Special Needs.

Date Granted: September 25, 2013.

Reasons Waived: The waiver was granted based upon the abbreviated period of time the City had between the publication of the new regulation and its commitment deadline to identify an alternate project to which to commit its HOME funds. The waiver, which permits the City to commit HOME funds to the Lynhaven rehabilitation project while its applications for bond financing and Low-Income Housing Tax Credits (LIHTC) are pending, is conditioned on the project securing this financing based upon the schedule submitted to HUD.

Contact: Virginia Sardone, Director, Office of Affordable Housing Programs, Office of Community Planning and Development, Department of Housing and Urban Development, 451 7th Street SW., Room 7164, Washington, DC 20410, telephone (202) 708-2684.

Regulations: 24 CFR 92.252(e) and 24 CFR 92. 92.254(a)(4).

Project/Activity: The City of New Orleans, LA, requested that HUD waive the affordability period set forth in 24 CFR 92.252(e) and 92.254(a)(4) for 31 HOME-assisted projects that were destroyed during Hurricanes Katrina and Rita in 2005, and Gustav in 2008.

Nature of Requirements: The HOME regulations at 24 CFR 92.252-(e) and 92.254(a)(4) set forth the minimum required affordability period for HOME-assisted rental projects and homebuyer projects, respectively. The City invested a total of $1,422,742.72 of HOME funds in 31 rental and homebuyer projects that were destroyed or irreparably damaged as a result of three Presidentially-declared major disasters. Consequently, they did not meet their required affordability periods due to circumstances beyond the City's control.

Granted By: Mark Johnston, Deputy Assistant Secretary for Special Needs.

Date Granted: September 13, 2013.

Reasons Waived: The waiver was granted to reduce the affordability periods under § 92.252(e) and 92.254(a)(4) to the useful life of these projects which ended when the properties were destroyed or severely damaged by Hurricanes Katrina, and Rita in 2005, and Gustav, in 2008.

Contact: Virginia Sardone, Director, Office of Affordable Housing Programs, Office of Community Planning and Development, Department of Housing and Urban Development, 451 7th Street SW., Room 7164, Washington, DC 20410, telephone (202) 708-2684.

Regulation: Neighborhood Stabilization Program 3 Notice, published on October 9, 2010, at 75 FR 64333 (II.H.3.f) in accordance with Title XII of Division A under the heading Community Planning and Development: Community Development Fund of the American Recovery and Reinvestment Act of 2009.

Project/Activity: Clark County, NV, requested a waiver of the 10 percent demolition cap under the Neighborhood Stabilization Program which restricts grantees from spending more than 10 percent of total grant funds on demolition activities. Clark County requested a waiver to spend $3,540,526.00 or approximately seventeen and one-half percent of its NSP3 allocation of $20,253,261.00 on the demolition of asbestos infected structures.

Nature of Requirement: Section II.H.3.f of the NSP3 Notice provides that a grantee may not use more than ten percent of its grant for demolition activities.

Granted By: Mark Johnston, Deputy Assistant Secretary for Special Needs.

Date Granted: August 1, 2013.

Reason Waived: Clark County requested a waiver to spend $3,540,526.00 or approximately seventeen and one-half percent of its NSP3 allocation of $20,253,261.00 on the demolition of asbestos infected structures. Clark County provided statistical data supporting the presence of asbestos in many units which caused demolition costs to be significantly higher than initially expected. Consequently, Clark County was granted a waiver of the expenditure of funds for demolition. Demolition activities target NSP3 investment neighborhoods and remove safety hazards and the destabilizing influence of blighted properties.

Contact: Jessie Handforth Kome, Deputy Director, Office of Block Grant Assistance, Office of Community Planning and Development, Department of Housing and Urban Development, 451 7th Street SW., Room 7286, Washington, DC 20410, telephone (202) 402-5539.

II. Regulatory Waivers Granted by the Office of Housing—Federal Housing Administration (FHA)

For further information about the following regulatory waivers, please see the name of the contact person that immediately follows the description of the waiver granted.

Regulation: 24 CFR 200.85(b).

Project/Activity: North Point II, Fort Smith, Arkansas, Project Number: 082-35448.

Nature of Requirement: Section 200.85(b) of HUD's regulation provides that “A covenant against repayment of a Commissioner approved inferior lien from mortgage proceeds other than surplus cash or residual receipts, except in the case of an inferior lien created by an operating loss loan insured pursuant to Section 223(d) of the [National Housing] Act, or a supplemental loan insured pursuant to Section 241 of the Act.”

Granted By: Carol J. Galante, Assistant Secretary for Housing—Federal Housing Commissioner.

Date Granted: July 8, 2013.

Reason Waived: The Arkansas Development Finance Authority (ADFA), the state housing allocation agency does not allow HOME loans without required payments of principal and interest. To meet ADFA requirements, the borrower requested the use of operating funds to repay the $400,000 HOME loan. The award of Low-Income Housing Tax Credits (LIHTC) is tied to the allocation HOME funds. If the borrower did not accept the HOME funds, the project would not have qualified LIHTC. This approved waiver for Section 223(a)(7)/221(d)(4) Refinance is the second waiver for the subject property. The first waiver was approved for the subject project on March 24, 2010, when the application was submitted as a Section 221(d)(4) new constructions with LIHTC.

Contact: Theodore K. Toon, Director, Office of Multifamily Housing Development, HTD, Office of Housing, Department of Housing and Urban Development, 451 7th Street SW., Room 6134, Washington, DC 20410, telephone (202) 402-8386.

Regulation: Mortgagee Letter (ML) 2011-22, Condominium Project Approval and Processing Guide, Insurance Requirements (Baseline Condo Guidance—ML serves as regulation as defined under HERA). (See http://portal.hud.gov/hudportal/HUD?src=/program_offices/administration/hudclips/letters/mortgagee/2011ml.)

Project/Activity: FHA Concentration Waiver for Vinewood Village Condominium located in the City of Wyandotte, Michigan.

Nature of Requirement: ML 2011-22 states that FHA will not insure any mortgage in an approved project if 50 percent or more of the units are FHA-insured.

Granted By: Carol J. Galante, Assistant Secretary for Housing—Federal Housing Commissioner.

Date Granted: August 20, 2013.

Reason Waived: The Vinewood Village Condominium does not meet the exception policy defined in ML 2011-22. However, to help ensure the availability of the affordable housing contained within the Vinewood Village Condominium and HUD's objectives to expand the availability of affordable sustained homeownership opportunities for low-to-moderate income borrowers the waiver was determined necessary. The sale of condominium units is vital to the recovery of the housing market.

Contact: Joanne B. Kuczma, Housing Program Officer, Office of Single Family Program, Department of Housing and Urban Development, 451 7th Street SW., Washington, DC 20410-8000, telephone (202) 708-3000.

Regulation: 24 CFR 200.72.

Project/Activity: St. Barnabas Hospital (SBH) is a 461-bed, not-for-profit community hospital and Level 1 Trauma Center. SBH is located in Bronx County, New York.

Nature of Requirement: The regulation mandates the project when completed shall not violate any material zoning or deed restrictions applicable to the project site, and shall comply with all applicable building and other governmental codes, ordinances, regulations and requirements.

Granted By: Carol J. Galante, Assistant Secretary for Housing—Federal Housing Commissioner.

Date Granted: July 24, 2013.

Reason Waived: The Hospital does not meet all of the applicable building codes, because it does not have a Permanent Certificate of Occupancy (PCO) for the building, but has a Temporary Certificate of Occupancy. It was determined that SBH would be able to move to Final Endorsement, enabling the purchase and installation of a new boiler system, which will have significant financial benefits for SBH, allowing a savings of approximately $3,000,000 annually in operating expenses.

Contact: Shelley M. McCracken-Rania, Senior Financial Analyst, Office of Healthcare Programs, Office of Housing, Department of Housing and Urban Development, 451 7th Street SW., Room 2237, Washington, DC 20410, telephone (202) 402-5366.

Regulation: 24 CFR 219.220(b).

Project/Activity: Villanova Apartments—FHA Project Number 117-35219, Lawton, Oklahoma. The owner is requesting to defer repayment of the Flexible Subsidy loans on this project because of the owner's inability to repay the loan in full or partially upon maturity.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Carol J. Galante, Assistant Secretary for Housing—Federal Housing Commissioner.

Date Granted: September 5, 2013.

Reason Waived: This waiver was granted to exempt the non-profit owner from the requirement to repay the Flexible Subsidy Loan upon prepayment/refinance of Section 221(d)(4) loan and recapitalize the project to allow for needed repairs and improvement. It was determined that these efforts would assure that residents are not displaced and that the project would be able to meet or exceed the HUD's standard for providing safe, decent, sanitary and affordable housing for the Lawton, Oklahoma community.

Contact: Mark B. Van Kirk, Director, Office of Asset Management, Office of Housing, Department of Housing and Urban Development, 451 7th Street SW., Room 6160, Washington, DC 20410, telephone (202) 708-3730.

Regulation: 24 CFR 219.220(b).

Project/Activity: Vineville Christian Towers—FHA Project Number 061-SH010, Macon, Georgia. The owner has requested a deferral of repayment of the Flexible Subsidy Operating Assistance Loan on this project to allow a longer term to pay off the loan.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Carol J. Galante, Assistant Secretary for Housing—Federal Housing Commissioner.

Date Granted: September 5, 2013.

Reason Waived: The owner was allowed to waive the provision to defer repayment of the Flexible Subsidy Operating Assistance Loan because the owner could not afford to rehabilitate the property and repay the loan in full or partially upon maturity. It was determined that granting the waiver would allow the owner to refinance the loan and facilitate rehabilitation of the project. The refinance will enable the owner to recapitalize the property and preserve the 196 units of affordable housing for an additional 40 years.

Contact: Mark B. Van Kirk, Director, Office of Asset Management, Office of Housing, Department of Housing and Urban Development, 451 7th Street SW., Room 6160, Washington, DC 20410, telephone (202) 708-3730.

Regulation: 24 CFR 219.220(b).

Project/Activity: Denver Metro Village—FHA Project Number 101-44802, Denver, Colorado. The owner is requesting to defer repayment of the Flexible Subsidy loans on this project because of the owner's inability to repay the loans in full or partially upon maturity.

Nature of Requirement: Section 219.220(b) of HUD's regulations govern the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Carol J. Galante, Assistant Secretary for Housing—Federal Housing Commissioner.

Date Granted: September 5, 2013.

Reason Waived: The waiver was granted, allowing the owner to defer repayment of the Flexible Subsidy Operating Assistance Loan, because it was determined that the owner could not afford to rehabilitate the property and repay the loan in full or partially upon maturity. This waiver would allow the owner to refinance the loan and facilitate rehabilitation of the project. The refinance would allow the owner to recapitalize the property and preserve the 192 units of affordable housing for the elderly and handicapped for 20 years from the date of the original mortgage maturity.

Contact: Mark B. Van Kirk, Director, Office of Asset Management, Office of Housing, Department of Housing and Urban Development, 451 7th Street SW., Room 6160, Washington, DC 20410, telephone (202) 708-3730.

Regulation: 24 CFR 219.220(b).

Project/Activity: Springvale Terrace Apartments—FHA Project Number 024-SH017, Silver Spring, Maryland. The owner is requesting to defer repayment of the Flexible Subsidy loans on this project because the property does not possess resources to repay the loan upon its maturity.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Carol J. Galante, Assistant Secretary for Housing—Federal Housing Commissioner.

Date Granted: August 8, 2013.

Reason Waived: This waiver was granted to exempt the non-profit owner from the requirement to repay the Flexible Subsidy Loan upon prepayment/refinance of Section 202 loan and to recapitalize the project to allow for needed major repairs and improvement. It was determined that these efforts would assure that residents are not displaced and that the project will meet or exceed HUD's standard for providing safe, decent, sanitary and affordable housing for the Silver Spring, Maryland community.

Contact: Mark B. Van Kirk, Director, Office of Asset Management, Office of Housing, Department of Housing and Urban Development, 451 7th Street SW., Room 6160, Washington, DC 20410, telephone (202) 708-3730.

Regulation: 24 CFR 242.17(b).

Project/Activity: The New York Presbyterian Hospital (NYP) is part of New York Presbyterian Healthcare System, an affiliation of healthcare facilities and providers. NYP is the five-facility, 2,224 bed flagship Hospital of the System. NYP is located in Manhattan, NY.

Nature of Requirement: HUD's regulation at 24 CFR 242.17(b) mandates the commitment will provide for insurance of advances of mortgage funds during construction.

Granted By: Carol J. Galante, Assistant Secretary for Housing—Federal Housing Commissioner.

Date Granted: July 24, 2013.

Reason Waived: The waiver was granted and provided that advances would be insured prior to construction. This proposed structure would benefit to NYP in lowering the cost of borrowing and reducing the mortgage amount compared to the traditional approach. NYP concludes a “permanent” financing eliminates the needs for capitalized interest, up to $25 million.

Contact: Shelley M. McCracken-Rania, Senior Financial Analyst, Office of Healthcare Programs, Office of Housing, Department of Housing and Urban Development, 451 7th Street SW., Room 2237, Washington, DC 20410, telephone (202) 402-5366.

Regulation: 24 CFR 242.42.

Project/Activity: The New York Presbyterian Hospital (NYP) is part of New York Presbyterian Healthcare System, an affiliation of healthcare facilities and providers. NYP is the five-facility, 2,224 bed flagship Hospital of the System. NYP is located in Manhattan, NY.

Nature of Requirement: HUD's regulation at 24 CFR 242.42 mandates the mortgagor's Certificate of Actual Cost be submitted upon completion of the physical improvements to the satisfaction of HUD and before final endorsement.

Granted By: Carol J. Galante, Assistant Secretary for Housing—Federal Housing Commissioner.

Date Granted: July 24, 2013.

Reason Waived: The waiver was granted and provided that the Mortgagor's Certificate of Actual Cost would not be submitted until after “Same-Day” endorsement of the loan. This proposed structure would benefit to NYP in lowering the cost of borrowing and reducing the mortgage amount compared to the traditional approach. NYP concludes a “permanent” financing eliminates the needs for capitalized interest, up to $25 million.

Contact: Shelley M. McCracken-Rania, Senior Financial Analyst, Office of Healthcare Programs, Office of Housing, Department of Housing and Urban Development, 451 7th Street SW., Room 2237, Washington, DC 20410, telephone (202) 402-5366.

Regulation: 24 CFR 242.72.

Project/Activity: Bradford Rehab Associates d.b.a. Whittier Rehabilitation Hospital (Whittier) is an acute rehabilitation hospital and a member of Whittier Health Network. Whittier is located in Bradford, MA.

Nature of Requirement: HUD's regulation at 24 CFR 242.72 prohibits the leasing of hospitals by proposed mortgagors, effectively requires that the owner (mortgagor) of the facility and operator of the facility be the same organization.

Granted By: Carol J. Galante, Assistant Secretary for Housing—Federal Housing Commissioner.

Date Granted: September 17, 2013.

Reason Waived: The owner and mortgagor lease the Hospital to an operator, BRN Corporation, a member of the Whittier Health Network. Whittier's current long-term debt is at a variable interest rate and terms require it be paid in full on January 24, 2014. The granting of the waiver would allow Whittier's current debt to be refinanced at a long-term, fixed rate.

Contact: Shelley M. McCracken-Rania, Senior Financial Analyst, Office of Healthcare Programs Office of Housing, Department of Housing and Urban Development, 451 7th Street SW., Room 2237, Washington, DC 20410, telephone (202) 402-5366.

Regulation: 24 CFR 891.100(d).

Project/Activity: Wings of Hope, San Antonio, TX, Project Number: 115-HD052/TX59-Q091-002.

Nature of Requirement: Section 891.100(d) prohibits amendment of the amount of the approved capital advance funds prior to closing.

Granted By: Carol J. Galante, Assistant Secretary for Housing—Federal Housing Commissioner.

Date Granted: July 18, 2013.

Reason Waived: The project was determined to be economically designed and comparable in cost to similar projects in the area, and the sponsor/owner exhausted all efforts to obtain additional funding from other sources.

Contact: Catherine M. Brennan, Director, Office of Housing Assistance and Grant Administration, Office of Housing, Department of Housing and Urban Development, 451 7th Street SW., Room 6134, Washington, DC 20410, telephone (202) 708-3000.

Regulation: 24 CFR 891.100(d).

Project/Activity: Findley Place Apartments, Pittsfield, IL, Project Number: 072-EE187/IL06-S101-011.

Nature of Requirement: Section 891.100(d) prohibits amendment of the amount of the approved capital advance funds prior to closing.

Granted By: Carol J. Galante, Assistant Secretary for Housing—Federal Housing Commissioner.

Date Granted: August 8, 2013.

Reason Waived: The project was determined to be economically designed and comparable in cost to similar projects in the area, and the sponsor/owner exhausted all efforts to obtain additional funding from other sources.

Contact: Catherine M. Brennan, Director, Office of Housing Assistance and Grant Administration, Office of Housing, Department of Housing and Urban Development, 451 7th Street SW., Room 6134, Washington, DC 20410, telephone (202) 708-3000.

Regulation: 24 CFR 891.100(d).

Project/Activity: George Gervin Retirement Apartments, San Antonio, TX, Project Number: 115-EE093/TX59-S091-005.

Nature of Requirement: Section 891.100(d) prohibits amendment of the amount of the approved capital advance funds prior to closing.

Granted By: Carol J. Galante, Assistant Secretary for Housing—Federal Housing Commissioner.

Date Granted: August 29, 2013.

Reason Waived: The project was determined to be economically designed and comparable in cost to similar projects in the area, and the sponsor/owner exhausted all efforts to obtain additional funding from other sources.

Contact: Catherine M. Brennan, Director, Office of Housing Assistance and Grant Administration, Office of Housing, Department of Housing and Urban Development, 451 7th Street SW., Room 6134, Washington, DC 20410, telephone (202) 708-3000.

Regulation: 24 CFR 891.100(d).

Project/Activity: Focus Outreach Community Development, Louisville, MS, Project Number: 065-HD045/MS26-Q101-001.

Nature of Requirement: Section 891.100(d) prohibits amendment of the amount of the approved capital advance funds prior to closing.

Granted By: Carol J. Galante, Assistant Secretary for Housing—Federal Housing Commissioner.

Date Granted: September 13, 2013.

Reason Waived: The project was determined to be economically designed and comparable in cost to similar projects in the area, and the sponsor/owner exhausted all efforts to obtain additional funding from other sources.

Contact: Catherine M. Brennan, Director, Office of Housing Assistance and Grant Administration, Office of Housing, Department of Housing and Urban Development, 451 7th Street SW., Room 6134, Washington, DC 20410, telephone (202) 708-3000.

Regulation: 24 CFR 891.100(d) and 24 CFR 891.165.

Project/Activity: Housing Opportunities II, Shirley, NY, Project Number: 012-HD137/NY36-Q071-002.

Nature of Requirement: Section 891.100(d) prohibits amendment of the amount of the approved capital advance funds prior to closing. Section 891.165 provides that the duration of the fund reservation of the capital advance is 18 months from the date of issuance with limited exceptions up to 36 months, as approved by HUD on a case-by-case basis.

Granted By: Carol J. Galante, Acting Assistant Secretary for Housing—Federal Housing Commissioner.

Date Granted: July 18, 2013.

Reason Waived: The project was determined to be economically designed and comparable in cost to similar projects in the area, and the sponsor/owner exhausted all efforts to obtain additional funding from other sources. Additional time is needed to achieve an initial closing.

Contact: Catherine M. Brennan, Director, Office of Housing Assistance and Grant Administration, Office of Housing, Department of Housing and Urban Development, 451 7th Street SW., Room 6134, Washington, DC 20410, telephone (202) 708-3000.

Regulation: 24 CFR 891.100(d) and 24 CFR 891.165.

Project/Activity: Share XIV, Medford, NY, Project Number: 012-HD143/NY36-Q091-003.

Nature of Requirement: Section 891.100(d) prohibits amendment of the amount of the approved capital advance funds prior to closing. Section 891.165 provides that the duration of the fund reservation of the capital advance is 18 months from the date of issuance with limited exceptions up to 36 months, as approved by HUD on a case-by-case basis.

Granted By: Carol J. Galante, Acting Assistant Secretary for Housing—Federal Housing Commissioner.

Date Granted: September 11, 2013.

Reason Waived: The project was determined to be economically designed and comparable in cost to similar projects in the area, and the sponsor/owner exhausted all efforts to obtain additional funding from other sources. Additional time is needed to achieve an initial closing.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: George Gervin Retirement Apartments, San Antonio, TX, Project Number: 115-EE093/TX59-S091-005.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed for the project to achieve an initial closing.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Nativity B.V.M. Place, Philadelphia, PA, Project Number: 034-EE167/PA26-S091-005.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed for a decision from the courts involving a zoning appeal filed by a neighbor and for the project to reach an initial closing and start construction.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Wings of Hope, San Antonio, TX, Project Number: 115-HD052/TX59-Q091-002.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed for the project to achieve an initial closing.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Kenyon Terrace Apartments, Pawtucket, RI, Project Number: 016-HD063/RI43-Q091-006.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed for the project to achieve an initial closing and to begin the start of construction.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Jubilee Station, Charleston, WV, Project Number: 045-HD045/WV15-Q091-002.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed for the closing documents to be submitted, for the project to reach an initial closing and start construction.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Barringer Gardens, Charlotte, NC, Project Number: 053-EE199/NC19-S091-012.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed to process the new firm commitment application and initially close the project.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Orange Tree Senior Apartments, Oroville, Butte County, CA, Project Number: 136-EE097/CA30-S101-008.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed for this CAUC project to complete construction and reach initial closing.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Rosa Parks II Senior Housing, San Francisco, CA, Project Number: 121-EE225/CA39-S101-002.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 8, 2013.

Reason Waived: Additional time was needed to achieve an initial closing and to begin the start of construction.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: COMM 22 Seniors, San Diego, CA, Project Number: 129-EE036/CA33-S101-001.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 21, 2013.

Reason Waived: Additional time was needed for this capital advance upon completion project to reach initial closing.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Fairfield Commons I, Stamford, CT, Project Number: 017-HD042/CT26-Q091-001.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: August 23, 2013.

Reason Waived: Additional time was needed for this project to achieve an initial closing and to start construction.

Contact: Catherine M. Brennan, Director, Office of Housing Assistance and Grant Administration, Office of Housing, Department of Housing and Urban Development, 451 7th Street SW., Room 6134, Washington, DC 20410, telephone (202) 708-3000.

Regulation: 24 CFR 891.165.

Project/Activity: Fairthorne Housing, Philadelphia, PA, Project Number: 034-EE185/PA26-S101-010.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: September 26, 2013.

Reason Waived: Additional time was needed to coordinate various funding sources and to negotiate the loan documents for the project to reach initial closing.

Contact: Catherine M. Brennan, Director, Office of Housing Assistance and Grant Administration, Office of Housing, Department of Housing and Urban Development, 451 7th Street SW., Room 6134, Washington, DC 20410-8000, telephone (202) 708-3000.

Regulation: 24 CFR 891.165.

Project/Activity: Ken Crest PA 2010, Spring City, PA, Project Number: 034-HD117/PA26-Q101-004.

Nature of Requirement: Section 891.165 provides that the duration of the fund reservation of the capital advance is 18 months from the date of issuance with limited exceptions up to 36 months, as approved by HUD on a case-by-case basis.

Granted By: Carol J. Galante, Assistant Secretary for Housing—Federal Housing Commissioner.

Date Granted: September 26, 2013.

Reason Waived: Additional time was needed for this project to reach initial closing.

Contact: Catherine M. Brennan, Director, Office of Housing Assistance and Grant Administration, Office of Housing, Department of Housing and Urban Development, 451 7th Street SW., Room 6134, Washington, DC 20410, telephone (202) 708-3000.

III. Regulatory Waivers Granted by the Office of Public and Indian Housing

For further information about the following regulatory waivers, please see the name of the contact person that immediately follows the description of the waiver granted.

Regulation: 24 CFR 902.20.

Project/Activity: New York City Housing Authority, (NY005) New York, NY.

Nature of Requirement: The objective of this regulation is to determine whether a housing authority (HA) is meeting the standard of decent, safe, sanitary, and in good repair. The Real Estate Assessment Center (REAC) provides for an independent physical inspection of a HA's property of properties that includes a statistically valid sample of the units.

Granted By: Sandra B. Henriquez, Assistant Secretary for Public and Indian Housing.

Date Granted: July 12, 2013.

Reason Waived: New York City Housing Authority (NYCHA) sought a waiver from inspections for the FYE December 31, 2013, for 36 developments that received an inspection score of 80 or above for FY 2011. NYCHA cites the frequency of inspections provision in the PHAS rule as the basis for this waiver because NYCHA's FYE 2011 inspections began in calendar 2012 and were not completed until late that year.

Contact: Judy Wojciechowski, Program Manager, NASS, Real Estate Assessment Center, Office of Public and Indian Housing, Department of Housing and Urban Development, 550 12th Street SW., Suite 100, Washington, DC 20410, telephone (202) 475-7907.

Regulation: 24 CFR 941.606(n)(1)(ii)(B).

Project/Activity: Housing Authority of the City of Augusta, Georgia Walton Oaks Family Phase II Project Number: GA0010000190.

Nature of Requirement: This regulatory provision requires that “if the partner and/or owner entity (or any other entity with and identity of interest with such parties) wants to serve as the general contractor for the project or development, it may award itself the construction contract only if it can demonstrate to HUD's satisfaction that its bid is the lowest bid submitted in response to a public request for bids.”

Granted By: Sandra B. Henriquez, Assistant Secretary for Public and Indian Housing.

Date Granted: August 22, 2013.

Reason Waived: The Housing Authority of the City of Augusta submitted an independent cost estimate. HUD reviewed the Mixed-Finance proposal and confirmed that the construction costs for the project were below the independent cost review prepared. HUD also performed a fee analysis that showed all of the construction fees were at or below HUD's Cost Control and Safe Harbor Standards (revised April 9, 2003). On this basis, it was determined that good cause existed to grant the waiver so that the affiliate could serve as the general contractor.

Contact: Dominique Blom, Deputy Assistant Secretary for the Office of Public Housing Investments, Office of Public and Indian Housing, Department of Housing and Urban Development, 451 7th Street SW., Room 4130, Washington, DC 20140, telephone (202) 402-4181.

Regulation: 24 CFR 941.606(n)(1)(ii)(B).

Project/Activity: Chicago Housing Authority (CHA), Chicago, IL; Dorchester Artist Housing Mixed-Finance transaction.

Nature of Requirement: This regulatory provision requires that “if a partner and/or owner entity (or any other entity with an identity of interest with such parties) wants to serve as the general contractor for a project or development, it may award itself the construction contract only if it can demonstrate to HUD's satisfaction that its bid is the lowest responsive bid submitted in response to a public request for bids.”

Granted By: Sandra B. Henriquez, Assistant Secretary for Public and Indian Housing.

Date Granted: September 13, 2013.

Reason Waived: HUD reviewed the Mixed-Finance proposal and confirmed that the construction costs for the project were below the independent cost review prepared by Construction Cost System submitted by CHA. HUD also performed a fee analysis that showed all of the construction fees were at or below HUD's Cost Control and Safe Harbor Standards (revised April 9, 2003). On this basis, it was determined that good cause existed to grant the waiver so that OVC BCM JV with BCM owned by Brinshore Development, LLC, a member of the development team for the Project, could serve as the general contractor.

Contact: Dominique Blom, Deputy Assistant Secretary for the Office of Public Housing Investments, Office of Public and Indian Housing, Department of Housing and Urban Development, 451 7th Street SW., Room 4130, Washington, DC 20140, telephone (202) 402-4181.

Regulation: 24 CFR 982.505(d).

Project/Activity: San Diego Housing Commission (SDHC), San Diego, CA

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 13, 2013.

Reason Waived: The participant, who is a person with disabilities, required an exception payment standard to remain in her unit. To provide this reasonable accommodation so the client could remain in her unit and pay no more than 40 percent of her adjusted income toward the family share, the SDHC was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

Regulation: 24 CFR 982.505(d).

Project/Activity: Knoxville Community Development Corporation (KCDC), Knoxville, TN.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 22, 2013.

Reason Waived: The participant, whose daughter is a person with disabilities, required an exception payment standard to remain in his current unit that met the needs of his daughter. To provide this reasonable accommodation so that the client could remain in his unit and pay no more than 40 percent of his adjusted income toward the family share, the KCDC was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

Regulation: 24 CFR 982.505(d).

Project/Activity: Oneonta Housing Authority (OHA), Oneonta, NY.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 22, 2013.

Reason Waived: The applicant, who is a person with disabilities, required an exception payment standard to move to a unit that meets the needs of her family. To provide this reasonable accommodation so that the client could move to a new unit and pay no more than 40 percent of its adjusted income toward the family share, the OHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

Regulation: 24 CFR 982.505(d).

Project/Activity: San Diego Housing Commission (SDHC), San Diego, CA.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: August 26, 2013.

Reason Waived: The participant, who is a person with disabilities, required an exception payment standard to move to a unit that meets his needs. To provide this reasonable accommodation so that the client could move to a new unit and pay no more than 40 percent of his adjusted income toward the family share, the SDHC was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

Regulation: 24 CFR 982.505(d).

Project/Activity: Sawyer County Housing Authority (SCHA), Sawyer County, WI.

Nature of Requirement: HUD's regulation at 24 CFR 982.505(d) states that a public housing agency may only approve a higher payment standard for a family as a reasonable accommodation if the higher payment standard is within the basic range of 90 to 110 percent of the fair market rent (FMR) for the unit size.

Granted By: Sandra B. Henriquez, Assistant Secretary for Public and Indian Housing.

Date Granted: September 13, 2013.

Reason Waived: The participant, who is a person with disabilities, required an exception payment standard to remain in her unit. To provide this reasonable accommodation so the family could remain in its unit and pay no more than 40 percent of its adjusted income toward the family share, the SCHA was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street SW., Room 4216, Washington, DC 20410, telephone (202) 708-0477.

Regulation: 24 CFR 983.51.

Project/Activity: Galveston Housing Authority (GHA), Galveston, TX.

Nature of Requirement: HUD's regulation at 24 CFR 983.51 records the owner proposal selection procedures. These procedures require a current or previous competitive selection.

Granted By: Sandra B. Henriquez, Assistant Secretary for Public and Indian Housing.

Date Granted: September 3, 2013.

Reason Waived: This regulation was waived in order to finalize and expedite the redevelopment of public housing that was destroyed due to Hurricane Ike and to address critical housing needs on Galveston Island that would otherwise remain unaddressed.

Contact: Laure Rawson, Director, Housing Voucher Management and Operations Division, Office of Public Housing and Voucher Programs, Office of Public and Indian Housing, Department of Housing and Urban Development, 451 7th Street SW., Room 4210, Washington, DC 20410, telephone (202) 708-0477.

Regulation: 24 CFR 983.51(b), 983.55(b) and 983.153(a).

Project/Activity: Norfolk Redevelopment and Housing Authority (NRHA), Norfolk, VA.

Nature of Requirement: The first regulation provides that a PHA must select PBV proposals by either of two methods requiring competitive selection. The second regulation provides that a PHA may not enter into an Agreement to enter into a Housing Assistance Payments Contract (AHAP) until HUD or an independent entity approved by HUD has conducted a required subsidy layering review (SLR) and determined that the PBV assistance is in accordance with the HUD SLR requirements. The third regulation provides that the PHA may not enter the AHAP with the owner until the SLR is completed.

Granted By: Sandra B. Henriquez, Assistant Secretary for Public and Indian Housing.

Date Granted: August 14, 2013.

Reason Waived: These regulations were waived based on the unique collaborative effort of five communities to provide critical housing for the homeless (including veterans and the disabled and the multitude of funding sources committed to Heron's Landing.

Contact: Laure Rawson, Director, Housing Voucher Management and Operations Division, Office of Public Housing and Voucher Programs, Office of Public and Indian Housing, Department of Housing and Urban Development, 451 7th Street SW., Room 4210, Washington, DC 20410, telephone (202) 708-0477.

Regulation: 24 CFR 983.206(b).

Project/Activity: Housing Authority of the City of Milwaukee (HACM), Milwaukee, WI.

Nature of Requirement: HUD's regulation at 24 CFR 983.206(b) provides that at the discretion of the PHA and provided that the total number of units in a project that will receive project-based voucher (PBV) assistance or other project-based assistance will not exceed 25 percent of the number of dwelling units (assisted or unassisted) in the project or the 20 percent of authorized budget authority, a housing assistance payments (HAP) contract may be amended during the three-year period immediately following the execution date of the HAP contract to add additional PBV contract units in the same project.

Granted By: Sandra B. Henriquez, Assistant Secretary for Public and Indian Housing.

Date Granted: August 9, 2013.

Reason Waived: This regulation was waived since the original contract for this project was executed in 2004 and waiving this regulation would ensure the financial stability of the HUD-approved mixed finance project.

Contact: Laure Rawson, Director, Housing Voucher Management and Operations Division, Office of Public Housing and Voucher Programs, Office of Public and Indian Housing, Department of Housing and Urban Development, 451 7th Street SW., Room 4210, Washington, DC 20410, telephone (202) 708-0477.

Regulation: 24 CFR 984.303(d).

Project/Activity: San Diego County Housing Authority (SDCHA), San Diego County, CA.

Nature of Requirement: This regulation limits extensions of Family Self-Sufficiency (FSS) contracts by a public housing agency to two years beyond the initial five-year term of the FSS contract.

Granted By: Sandra B. Henriquez, Assistant Secretary for Public and Indian Housing.

Date Granted: August 29, 2013.

Reason Waived: This regulation was waived because failure to complete the contract within the contract term was due to serious health challenges within her family and job market conditions during a severe economic downturn in California.

Contact: Laure Rawson, Director, Housing Voucher Management and Operations Division, Office of Public Housing and Voucher Programs, Office of Public and Indian Housing, Department of Housing and Urban Development, 451 7th Street SW., Room 4210, Washington, DC 20410, telephone (202) 708-0477.

Regulation: 24 CFR 985.101(a).

Project/Activity: Ware Housing Authority (WHA), Ware, MA.

Nature of Requirement: HUD's regulation at 24 CFR 985.101(a) provides that a PHA must submit the HUD-required Section Eight Management Assessment Program (SEMAP) certification form within 60 calendar days after the end of its fiscal year.

Granted By: Sandra B. Henriquez, Assistant Secretary for Public and Indian Housing.

Date Granted: September 16, 2013.

Reason Waived: This waiver was granted since the executive director was terminated by the Board of Directors prior to the due date of the SEMAP certification and no one else had entry rights to submit WHA's certification. WHA was permitted to submit its SEMAP certification after the due date.

Contact: Laure Rawson, Director, Housing Voucher Management and Operations Division, Office of Public Housing and Voucher Programs, Office of Public and Indian Housing, Department of Housing and Urban Development, 451 7th Street SW., Room 4210, Washington, DC 20410, telephone (202) 708-0477.

Regulation: 24 CFR 985.101(a).

Project/Activity: Chester Housing Authority (CHA), Chester, SC.

Nature of Requirement: HUD's regulation at 24 CFR 985.101(a) provides that a PHA must submit the HUD-required Section Eight Management Assessment Program (SEMAP) certification form within 60 calendar days after the end of its fiscal year.

Granted By: Sandra B. Henriquez, Assistant Secretary for Public and Indian Housing.

Date Granted: September 30, 2013.

Reason Waived: This waiver was granted since the acting executive director resigned in August prior to the due date of the SEMAP certification and no one else had entry rights to submit CHA's certification. CHA was permitted to submit its SEMAP certification after the due date.

Contact: Laure Rawson, Director, Housing Voucher Management and Operations Division, Office of Public Housing and Voucher Programs, Office of Public and Indian Housing, Department of Housing and Urban Development, 451 7th Street SW., Room 4210, Washington, DC 20410, telephone (202) 708-0477.

[FR Doc. 2013-29828 Filed 12-13-13; 8:45 am]

BILLING CODE 4210-67-P